DEPARTMENT OF COMMERCE

International Trade Administration

[A-570-825]

Sebacic Acid From the People's Republic of China: Preliminary Results of Antidumping Duty Administrative Review

AGENCY: Import Administration, International Trade Administration, Department of Commerce.

ACTION: Notice of preliminary Results of antidumping duty administrative review of sebacic acid from the People's Republic of China

SUMMARY: The Department of Commerce is conducting an administrative review of the antidumping duty order on sebacic acid from the People's Republic of China in response to requests from the petitioner, Arizona Chemical Company, and the following two respondents: Tianjin Chemicals Import and Export Corporation and Guangdong Chemicals Import and Export Corporation. In addition to these two respondents, the petitioner also requested a review of Sinochem Jiangsu Import and Export Corporation and Sinochem International Chemicals Company. This review covers four exporters of the subject merchandise. The period of review is July 1, 1998, through June 30, 1999.

We preliminarily determine that sales have been made below normal value. Interested parties are invited to comment on these preliminary results. If these preliminary results are adopted in our final results of administrative review, we will instruct the Customs Service to assess antidumping duties on entries subject to this review.

EFFECTIVE DATE: April 10, 2000.

FOR FURTHER INFORMATION CONTACT: James Nunno or Christopher Priddy, Office 2, AD/CVD Enforcement Group I, International Trade Administration, U.S. Department of Commerce, 14th Street and Constitution Avenue, N.W., Washington, D.C. 20230; telephone: (202) 482-0783 or (202) 482-1130, respectively.

Applicable Statute and Regulations

Unless otherwise indicated, all citations to the Tariff Act of 1930, as amended (the Act) are references to the provisions effective January 1, 1995, the effective date of the amendments made to the Act by the Uruguay Round Agreements Act (URAA). In addition, unless otherwise indicated, all citations to the Department of Commerce's (the Department's) regulations are to 19 CFR part 351 (1999).

SUPPLEMENTARY INFORMATION:

Background

On July 15, 1999, the Department published in the Federal Register at 64 FR 38181 a notice of “Opportunity to Request an Administrative Review” of the antidumping duty order on sebacic acid from the People's Republic of China (PRC) covering the period July 1, 1998, through June 30, 1999.

On July 22, 1999, in accordance with 19 CFR 351.213(b), the petitioner requested that we conduct an administrative review of Tianjin Chemicals Import and Export Corporation (Tianjin), Guangdong Chemicals Import and Export Corporation (Guangdong), Sinochem International Chemicals Company, Ltd. (SICC) and Sinochem Jiangsu Import and Export Corporation (Jiangsu). On July 26, 1999, Tianjin and Guangdong also requested that we conduct an administrative review. We published a notice of initiation of this antidumping duty administrative review on August 30, 1999, at 64 FR 47167. On September 9, 1999, we issued questionnaires to the four respondents. Tianjin and Guangdong submitted responses to sections A, C, and D of the antidumping questionnaire on November 8, 1999. The Department issued its supplemental questionnaires on January 19, 2000, and received responses to the questionnaires in February 2000. Both Guangdong and Tianjin submitted additional information clarifying their reported sales and factors of production data in March 2000. SICC and Jiangsu did not respond to the Department's questionnaire.

On December 14, 1999, the Department invited interested parties to provide publicly available information (PAI) for valuing the factors of production and for surrogate country selection. We received responses from the petitioner on January 24, 2000. The respondents did not submit PAI information for purposes of the preliminary results.

The Department is conducting this administrative review in accordance with section 751 of the Act.

Scope of Review

The products covered by this order are all grades of sebacic acid, a dicarboxylic acid with the formula (CH2)8(COOH)2, which include but are not limited to CP Grade (500ppm maximum ash, 25 maximum APHA color), Purified Grade (1000 ppm maximum ash, 50 maximum APHA color), and Nylon Grade (500 ppm maximum ash, 70 maximum ICV color). The principal difference between the grades is the quantity of ash and color. Sebacic acid contains a minimum of 85 percent dibasic acids of which the predominant species is the C10 dibasic acid. Sebacic acid is sold generally as a free-flowing powder/flake.

Sebacic acid has numerous industrial uses, including the production of nylon 6/10 (a polymer used for paintbrush and toothbrush bristles and paper machine felts), plasticizers, esters, automotive coolants, polyamides, polyester castings and films, inks and adhesives, lubricants, and polyurethane castings and coatings.

Sebacic acid is currently classifiable under subheading 2917.13.00.30 of the Harmonized Tariff Schedule of the United States (HTSUS). Although the HTSUS subheading is provided for convenience and customs purposes, our written description of the scope of this proceeding remains dispositive.

Separate Rates

It is the Department's standard policy to assign all exporters of the merchandise subject to review in non-market-economy (NME) countries a single rate, unless an exporter can demonstrate an absence of government control, both in law and in fact, with respect to exports. To establish whether an exporter is sufficiently independent of government control to be entitled to a separate rate, the Department analyzes the exporter in light of the criteria established in the Final Determination of Sales at Less Than Fair Value: Sparklers from the People's Republic of China, 56 FR 20588 (May 6, 1991) (Sparklers), and amplified in the Final Determination of Sales at Less Than Fair Value: Silicon Carbide from the People's Republic of China, 59 FR 22585 (May 2, 1994) (Silicon Carbide). Evidence supporting, though not requiring, a finding of de jure absence of government control over export activities includes: (1) An absence of restrictive stipulations associated with an individual exporter's business and export licenses; (2) any legislative enactments decentralizing control of companies; and (3) any other formal measures by the government decentralizing control of companies. With respect to evidence of a de facto absence of government control, the Department considers the following factors: (1) Whether the respondent sets its own export prices independent from the government and other exporters; (2) whether the respondent can retain the proceeds from its export sales; (3) whether the respondent has the authority to negotiate and sign contracts; and (4) whether the respondent has autonomy from the government regarding the selection of management. See Silicon Carbide at 22587 and Sparklers at 20589.

With respect to Tianjin and Guangdong, in our final results for the period of review (POR) covering July 1, 1997, through June 30, 1998, the Department determined there was both de jure and de facto absence of government control of each company's export activities and determined that each company warranted a company-specific dumping margin. See Final Results of Antidumping Administrative Review: Sebacic Acid From the People's Republic of China, 64 FR 69503 (December 13, 1999) (Sebacic Acid Fourth Review). For this review, both Tianjin and Guangdong have responded to the Department's request for information regarding separate rates. We have found that the evidence on the record is consistent with the final results in the Sebacic Acid Fourth Review and continues to demonstrate an absence of both de jure and de facto government control with respect to their exports in accordance with the criteria identified in Sparklers and Silicon Carbide.

With respect to SICC and Jiangsu, which did not respond to the Department's questionnaire, we preliminarily determine that these companies do not merit a separate rate. The Department assigns a single rate to companies in a non-market economy, unless an exporter demonstrates an absence of government control. We preliminarily determine that SICC and Jiangsu are subject to the country-wide rate for this case because they failed to demonstrate an absence of government control.

Use of Facts Otherwise Available for Non-Responding Companies

On September 9, 1999, the Department sent antidumping questionnaires to SICC and Jiangsu. SICC and Jiangsu did not respond to the questionnaire. Because we have received no responses, we determine that the use of facts available is appropriate.

Section 776(a)(2) of the Act provides that “if an interested party or any other person (A) withholds information that has been requested by the administering authority; (B) fails to provide such information by the deadlines for the submission of the information or in the form and manner requested, subject to subsections (c)(1) and (e) of section 782; (C) significantly impedes a proceeding under this title; or (D) provides such information but the information cannot be verified as provided in section 782(i), the administering authority shall, subject to section 782(d), use the facts otherwise available in reaching the applicable determination under this title.”

Because SICC and Jiangsu, which are part of the PRC entity (see “Separate Rates” section above), have failed to respond to the original questionnaire and have refused to participate in this administrative review, we find that, in accordance with sections 776(a)(2)(A) and (C) of the Act, the use of total facts available is appropriate. See, e.g., Sulfanilic Acid From the People's Republic of China; Final Results of Antidumping Duty Administrative Review, 65 FR 13366, 13367 (March 13, 2000).

Section 776(b) of the Act provides that, if the Department finds that an interested party “has failed to cooperate by not acting to the best of its ability to comply with a request for information,” the Department may use information that is adverse to the interests of the party as facts otherwise available. Adverse inferences are appropriate “to ensure that the party does not obtain a more favorable result by failing to cooperate than if it had cooperated fully.” See Statement of Administrative Action (“SAA”) accompanying the URAA, H.R. Doc. No. 103-316, at 870 (1994). Furthermore, “an affirmative finding of bad faith on the part of the respondent is not required before the Department may make an adverse inference.” See Antidumping Duties; Countervailing Duties: Final Rule, 62 FR 27296, 27340 (May 19, 1997) (Final Rule). Section 776(b) of the Act authorizes the Department to use as adverse facts available information derived from the petition, the final determination from the less than fair value (LTFV) investigation, a previous administrative review, or any other information placed on the record.

Under section 782(c) of the Act, a respondent has a responsibility not only to notify the Department if it is unable to provide requested information, but also to provide a “full explanation and suggested alternative forms.” SICC and Jiangsu failed to respond to our requests for information, thereby failing to comply with this provision of the statute. Therefore, we determine these respondents failed to cooperate to the best of their ability, making the use of an adverse inference appropriate. In this proceeding, in accordance with Department practice, as adverse facts available we have preliminarily assigned SICC, Jiangsu and all other exporters subject to the PRC-wide rate, the petition rate of 243.40 percent, which is the PRC-wide rate established in the LTFV investigation, and the highest dumping margin determined in any segment of this proceeding. See Fresh Garlic From the People's Republic of China: Preliminary Results of Antidumping Duty Administrative Review, 64 FR 39115 (July 21, 1999). The Department's practice when selecting an adverse rate from among the possible sources of information is to ensure that the margin is sufficiently adverse “as to effectuate the purpose of the facts available role to induce respondents to provide the Department with complete and accurate information in a timely manner.” See Static Random Access Memory Semiconductors from Taiwan; Final Determination of Sales at Less than Fair Value, 63 FR 8909, 8932 (February 23, 1998). The Department also considers the extent to which a party may benefit from its own lack of cooperation in selecting a rate. See Roller Chain, Other than Bicycle, from Japan; Notice of Final Results and Partial Recission of Antidumping Duty Administrative Review, 62 FR 60472, 60477 (November 10, 1997). It is reasonable to assume that if SICC and Jiangsu could have demonstrated that their actual dumping margins were lower than the PRC-wide rate established in the LTFV investigation, they would have participated in this review and attempted to do so.

Section 776(c) of the Act provides that where the Department selects from among the facts otherwise available and relies on “secondary information,” the Department shall, to the extent practicable, corroborate that information from independent sources reasonably at the Department's disposal. Secondary information is described in the SAA as “[i]nformation derived from the petition that gave rise to the investigation or review, the final determination concerning the subject merchandise, or any previous review under section 751 concerning the subject merchandise.” See SAA at 870. The SAA states that “corroborate” means to determine that the information used has probative value. See id. To corroborate secondary information, the Department will, to the extent practicable, examine the reliability and relevance of the information to be used. To examine the reliability of margins in the petition, we examine whether, based on available evidence, those margins reasonably reflect a level of dumping that may have occurred during the period of investigation by any firm, including those that did not provide us with usable information. This generally consists of examining, to the extent practicable, whether the significant elements used to derive the petition margins, or the resulting margins, are supported by independent sources. With respect to the relevance aspect of corroboration, the Department will consider information reasonably at its disposal as to whether there are circumstances that would render a margin not relevant. Where circumstances indicate that the selected margin may not be relevant, the Department will attempt to find a more appropriate basis for facts available. See, e.g., Fresh Cut Flowers from Mexico; Final Results of Antidumping Duty Administrative Review, 61 FR 6812, 6814 (February 22, 1996) (where the Department disregarded the highest margin as best information available because the margin was based on another company's uncharacteristic business expense resulting in an unusually high margin).

For the initiation of the investigation, the petitioner alleged a dumping margin of 243.40 percent. See Initiation of Antidumping Duty Investigation; Sebacic Acid From the People's Republic of China, 58 FR 43339, 43340 (August 16, 1993). In the petition, the U.S. price was based on March 1993 price quotations obtained for sebacic acid from the PRC. The factors of production were valued, where possible, using publicly available published information for India. Where Indian values were not available, the petitioners used data from Pakistan, an appropriate surrogate country at a comparable level of economic development to the PRC. The petitioner relied on its own costs for two factors, steam and factory overhead. If we adjust the petitioner's normal value calculation by excluding steam cost and recalculate factory overhead, selling, general and administrative expenses and profit using the statistics in the Reserve Bank of India Bulletin (1992-1993), a publicly available and independent source used in other investigations of imports from the PRC, the adjusted normal value is comparable to the value calculated in the petition.

We find, therefore, for the purpose of these preliminary results that the PRC-wide margin established in the LTFV investigation is reliable. As there is no information on the record of this review that demonstrates that the rate selected is not an appropriate adverse facts available rate for the PRC-wide rate, we determine that this rate has probative value and, therefore, is an appropriate basis for facts otherwise available.

Export Price

For Tianjin and Guangdong, we calculated export price (EP), in accordance with section 772(a) of the Act, because the subject merchandise was sold directly to unaffiliated customers in the United States prior to importation and because constructed export price (CEP) methodology was not otherwise warranted based on the facts of record. We calculated EP based on packed CIF prices to the first unaffiliated purchaser in the United States. Where appropriate, we made deductions from the starting price for foreign inland freight, foreign brokerage and handling, ocean freight, and marine insurance. With respect to ocean freight, although both respondents asserted that they used market-economy carriers for shipments of sebacic acid, we could not establish, based on the submitted information, that the freight charges the respondents paid reflect prices set by market-economy carriers. Accordingly, for ocean freight and other movement expenses, we based the charges on surrogate values. See “Normal Value” section for further discussion.

Normal Value

Section 773(c)(1) of the Act provides that the Department shall determine the normal value (NV) using a factors-of-production methodology if: (1) The merchandise is exported from an NME country, and (2) the information does not permit the calculation of NV using home-market prices, third-country prices, or constructed value (CV) under section 773(a) of the Act.

The Department has treated the PRC as an NME country in all previous antidumping cases. In accordance with section 771(18)(C)(i) of the Act, any determination that a foreign country is an NME country shall remain in effect until revoked by the administering authority. Furthermore, none of the parties to this proceeding has contested the PRC's NME status. Therefore, we treated the PRC as an NME country for purposes of this review and calculated NV by valuing the factors of production in a surrogate country.

Section 773(c)(4) of the Act and 19 CFR 351.408 direct us to select a surrogate country that is at a level of economic development comparable to that of the PRC. On the basis of per capita gross domestic product (GDP), the growth rate in per capita GDP, and the national distribution of labor, we find that India is at a level of economic development comparable to the PRC. See “Memorandum from Director, Office of Policy, to Office Director, AD/CVD Group I, Office 2,” dated November 8, 1999.

Section 773(c)(4) of the Act also requires that, to the extent possible, the Department use a surrogate country that is a significant producer of merchandise comparable to sebacic acid. We determined in prior reviews of this order that India was a significant producer of comparable merchandise (i.e., oxalic acid). See Sebacic Acid Fourth Review. For this review, we find that India was a producer of oxalic acid during the POR based on the Customs Service import data. We find that India fulfills both statutory requirements for use as the surrogate country and continue to use India as the surrogate country in this administrative review. We have used publicly available information relating to India, unless otherwise noted, to value the various factors of production.

For purposes of calculating NV, we valued PRC factors of production in accordance with section 773(c)(1) of the Act. Factors of production include, but are not limited to: (1) Hours of labor required; (2) quantities of raw materials employed; (3) amounts of energy and other utilities consumed; and (4) representative capital cost, including depreciation. In examining surrogate values, we selected, where possible, the publicly available value which was: (1) An average non-export value; (2) representative of a range of prices either within the POR or most contemporaneous with the POR; (3) product-specific; and (4) tax-exclusive. For a more detailed explanation of the methodology used in calculating the various surrogate values, see “Preliminary Results Factors of Production Valuation Memorandum,” dated April 3, 2000. We adjusted all values not contemporaneous to the POR to reflect inflation up to the POR using wholesale price indices published by the International Monetary Fund. In accordance with this methodology, we valued the factors of production as follows:

During the POR, both Hengshui Dongfeng Chemical Factory (Hengshui) and Handan Fuyang Sebacic Acid Factory (Handan) purchased castor oil from market economy suppliers and paid for the castor oil in a market economy currency. Hengshui also purchased castor oil from NME suppliers. For all purchases of castor oil, including castor oil Hengshui purchased from NME suppliers, we used the actual price the factories paid to the market economy suppliers to calculate the factors-based NV in accordance with 19 CFR 351.408(c)(1).

We valued castor seed using 1998 price data from the Solvent Extractors Association of India provided by the petitioner in its January 24, 2000, submission. For macropore resin, we used the value for activated carbon because the Department determined in previous reviews that the valuations of these inputs are interchangeable. See Sebacic Acid From the People's Republic of China: Preliminary Results of Antidumping Duty Administrative Review, 63 FR 17367, 17369 (April 9, 1998) (Sebacic Acid Third Review). Consistent with our methodology used in the fourth review of this proceeding, we valued activated carbon using public price quotes obtained from Indian companies. See Sebacic Acid Fourth Review at 69506. For caustic soda, cresol, phenol, sulfuric acid, and zinc oxide, we used published market prices reported in the Chemical Weekly. For caustic soda and sulfuric acid, because price quotes reported in Chemical Weekly are for chemicals with a 100 percent concentration level, we made chemical purity adjustments according to the particular concentration levels of caustic soda and sulfuric acid used by the respondents. For sodium chloride (also referred to as sodium chlorite or vacuum salt), we used Indian import values from the Monthly Statistics of the Foreign Trade of India (Monthly Statistics) for the period April 1997 through March 1998.

Where appropriate, we adjusted the values reported in the Chemical Weekly to exclude sales and excise taxes. We made further adjustments to account for freight costs between the suppliers' buildings and the respondents' sebacic acid manufacturing facilities.

In accordance with our practice, for inputs for which we used CIF import values from India, we calculated a surrogate freight cost using the shorter of the reported distances either from the closest PRC ocean port to the factory or from the domestic supplier to the factory. See Final Determination of Sales at Less Than Fair Value: Certain Cut-to-Length Carbon Steel Plate From the People's Republic of China, 62 FR 61964, 61977 (November 20, 1997) and the Court of Appeals for the Federal Circuit's decision in Sigma Corp. v. United States, 117 F.3d 1401 (Fed. Cir. 1997).

We valued labor based on a regression-based wage rate in accordance with 19 CFR 351.408(c)(3).

To value electricity, we used the average rate applicable to medium industrial users throughout India as obtained from the “Our India” website (http://www.ourindia.com/power.htm) compiled by the Indian Industrial and Management Services and submitted by the petitioner on January 24, 2000. We based the value of steam coal on April 1997 through March 1998 import values from the Monthly Statistics.

We based our calculation of factory overhead, selling, general and administrative (SG&A) expenses, and profit on data contained in the April 1995 Reserve Bank of India Bulletin for the Indian metals and chemicals industries. To value factory overhead, we summed those components which pertain to overhead expenses and divided them by the sum of those components pertaining to the cost of manufacturing. We multiplied this factory overhead rate by the cost of manufacturing divided by one minus the factory overhead rate. Using the same source, we also calculated the SG&A rate as a percentage of the cost of manufacturing. We calculated profit as a percentage of the cost of production (i.e., materials, energy, labor, factory overhead, and SG&A).

To value plastic and woven bags, we used import values from the Monthly Statistics. For jumbo bag valuation, we used a value from Monthly Statistics as found in the Department's Index of Factor Values for Use in Antidumping Duty Investigations Involving Products from the People's Republic of China (Index of Factor Values) found on the Department's website (http://www.ia.ita.doc.gov/factorv/prc). Additionally, we adjusted these values to account for freight costs incurred between the suppliers and sebacic acid producers.

In valuing foreign inland trucking freight, we relied upon price quotes obtained by the Department from Indian truck freight companies in November 1999; for foreign inland rail rates the Department relied upon data from Certain Helical Spring Lock Washers from the People's Republic of China: Final Results of Antidumping Duty Administrative Review, 64 FR 13401 (March 18, 1999). To value ocean freight, we used a price quote from Maersk Inc., for merchandise comparable to sebacic acid (i.e., oxalic acid). For marine insurance, we used the June 1998 marine insurance data collected for Tapered Roller Bearings and Parts Thereof, Finished and Unfinished, From the People's Republic of China; Final Results of 1996-97 Antidumping Duty Administrative Review and New Shipper Review and Determination Not To Revoke Order in Part, 63 FR 63842 (November 17, 1998). For foreign brokerage and handling expenses, we used public information reported in the antidumping duty investigations of sulfur dyes and stainless steel wire rod from India, respectively. See Final Determination of Sales at Less Than Fair Value: Sulfur Dyes, Including Vat Dyes from India , 58 FR 11835 (March 1, 1993); Certain Stainless Steel Wire Rod From India: Preliminary Results of Antidumping Duty Administrative and New Shipper Reviews, 63 FR 48184 (September 9, 1998).

Consistent with the methodology employed in Sebacic Acid Fourth Review, we have determined that fatty acid, glycerine, and castor seed cake (when castor oil is self-produced) are by-products. Because they are by-products, we subtracted the sales revenue of fatty acid, glycerine, and, where applicable, castor seed cake, from the estimated production costs of sebacic acid. This treatment of by-products is also consistent with generally accepted accounting principles. See Cost Accounting: A Managerial Emphasis (1991) at pages 539-544. To value fatty acid and glycerine, we used prices published in Chemical Weekly. We valued castor seed cake using market prices quoted in The Economic Times of India (Mumbai) for certain months in 1997.

We also allocated a by-product credit for glycerine to the production cost for the co-product capryl alcohol. We deducted a by-product credit for glycerine from sebacic acid based on the ratio of the value of sebacic acid to the total value of both sebacic acid and capryl alcohol.

Consistent with the methodology employed in the previous administrative review, we have determined that capryl alcohol is a co-product and have allocated the factor inputs based on the relative quantity of output of this product and sebacic acid. Additionally, we have used the production times necessary to complete each production stage of sebacic acid as a basis for allocating the amount of labor, energy usage, and factory overhead among the co-product(s). This treatment of co-products is consistent with generally accepted accounting principles. See Cost Accounting: A Managerial Emphasis (1991) at pages 528-533. To value capryl alcohol, consistent with our methodology from the previous administrative review, we used POR market prices reported in the Chemical Weekly and adjusted the prices for sales and excise taxes.

Preliminary Results of Review

We preliminarily determine that the following dumping margins exist for the period July 1, 1998, through June 30, 1999:

Manufacturer/exporter | Margin (percent)
Tianjin Chemicals I/E Corp | 0.82
Guangdong Chemicals I/E Corp | 7.51
PRC-Wide Rate | 243.40

Interested parties may request a hearing within 30 days of the publication of this notice. See 19 CFR 351.310(c). Any hearing, if requested, will be held 44 days after the date of the publication of this notice or the first workday thereafter. Interested parties may submit case briefs within 30 days of publication. Rebuttal briefs, limited to issues raised in the case briefs, may be filed no later than 35 days after the date of publication. Parties who submit case briefs or rebuttal briefs in this proceeding are requested to submit with each argument (1) a statement of the issue and (2) a brief summary of the argument. Parties are also encouraged to provide a summary of the arguments not to exceed five pages and a table of statutes, regulations, and cases cited.

The Department will subsequently issue a notice of the final results of this administrative review which will include the results of its analysis of issues raised in any such written briefs no later than 120 days after the date of publication of this notice.

The Department shall determine, and the Customs Service shall assess, antidumping duties on all appropriate entries. We have calculated an importer-specific assessment rate based on the ratio of the total amount of antidumping duties calculated for the examined sales to the total entered value of the examined sales. This rate will be assessed uniformly on all entries of that particular importer made during the POR. The Department will issue appraisement instructions directly to the Customs Service.

Furthermore, the following cash deposit requirements will be effective upon publication of the final results of this administrative review for all shipments of the subject merchandise entered, or withdrawn from warehouse, for consumption on or after the publication date, as provided by section 751(a)(1) of the Act: (1) For the reviewed companies named above which have separate rates (Tianjin and Guangdong), the cash deposit rates will be the rates for those firms established in the final results of this administrative review; (2) for companies previously found to be entitled to a separate rate and for which no review was requested, the cash deposit rates will be the rate established in the most recent review of that company; (3) for all other PRC exporters of subject merchandise, the cash deposit rates will be the PRC country-wide rate indicated above; and (4) the cash deposit rate for non-PRC exporters of subject merchandise from the PRC will be the rate applicable to the PRC supplier of that exporter. These deposit rates, when imposed, shall remain in effect until publication of the final results of the next administrative review.

Notification of Interested Parties

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This determination is issued and published in accordance with sections 751(a)(1) and 777(i)(1) of the Act.

Dated: April 3, 2000.
Joseph A. Spetrini,
Acting Assistant Secretary for Import Administration.

[FR Doc. 00-8821 Filed 4-7-00; 8:45 am]

BILLING CODE 3510-DS-P